FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 10, 2003.

A. Federal Reserve Bank of Atlanta (Sue Costello, Vice President) 1000 Peachtree Street, N.E., Atlanta, Georgia 30303:

1. Guy F. Medley, Michael P. McCann, both of Dothan, Alabama, and Michael A. Medley, Bonifay, Florida; to retain voting shares of Bonifay Holding Company, Inc., Bonifay, Florida, and thereby indirectly retain voting shares of The Bank of Bonifay, Bonifay, Florida.

2. Anita Marie Fontenot Melancon, Carla LaHaye Duhon and Darwin James Fontenot, all of Lafayette, Louisiana; Rachel Fontenot Wyble, Carencro, Louisiana; Carl Winn Fontenot, Verona Gayla Fontenot, Chad David Fontenot, Craig Dwaine Fontenot, David Joseph Fontenot, and Vickie Lynn Fontenot Bergeron, and Percy Fontenot, all of Ville Platte, Louisiana; Thelma Guillory LaHaye, Brenda LaHaye Vidrine, Earline Faye LaHaye Parrott, Richard Stagg Parrott III, and Karen Kathy LaHaye Marcantel, all of Mamou, Louisiana, to acquire voting shares of Citizens Bancshares, Inc., and thereby indirectly acquire voting shares of Citizens Bank, both of Ville Platte, Louisiana.

Board of Governors of the Federal Reserve System, August 21, 2003.
Jennifer J. Johnson,
Secretary of the Board.

[FR Doc. 03-21878 Filed 8-26-03; 8:45 am]

BILLING CODE 6210-01-S